DEPARTMENT OF EDUCATION

Membership of the Performance Review Board

AGENCY: Department of Education.

ACTION: Notice of Membership of the Performance Review Board.

SUMMARY: This notice announces the Secretary's appointment of the Department's Performance Review Board (PRB), consistent with 5 U.S.C. 4314(c)(4). The PRB reviews senior executives' performance appraisals and makes recommendations to the Secretary about the executives' ratings, as well as performance awards, including performance-based pay adjustments.

Membership

The members of the PRB are: Michell Clark (Chair), Sue Betka, Carol Cichowski, Robert S. Eitel, Harry Feely, Patty Guard, William Hamel, Danny Harris, Troy Justesen, Philip Link, Phil Maestri, Stephanie Monroe, Marianna O'Brien, Tom Skelly, Linda Stracke, Wendy Tada, Ricky Takai, and Winona Varnon. Alternates members are: Susan Craig, Chris Marston, Cheryl Oldham, Lizanne Stewman, and Jana Toner.

FOR FURTHER INFORMATION CONTACT: Chris Marston, Deputy Assistant Secretary for Management, U.S. Department of Education, 400 Maryland Avenue, SW., room 2W307, LBJ, Washington, DC 20202. Telephone: (202) 401-5846.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: October 2, 2007.
Margaret Spellings,
Secretary of Education.

[FR Doc. E7-19827 Filed 10-5-07; 8:45 am]

BILLING CODE 4000-01-P